DEPARTMENT OF TRANSPORTATION

Office of the Secretary

[Docket No. OST-2006-25603]

Senior Executive Service Performance Review Boards Membership

AGENCY: Office of the Secretary, Department of Transportation (DOT).

ACTION: Notice of Performance Review Board (PRB) appointments.

SUMMARY: DOT publication of the names of the persons selected to serve on the various Departmental PRBs as required by 5 U.S.C. 4314(c)(4).

FOR FURTHER INFORMATION CONTACT: Patricia A. Prosperi, Departmental Director, Office of Human Resource Management, (202) 366-4088.

SUPPLEMENTARY INFORMATION: The persons named below have been selected to serve on one or more Departmental PRBs.

Issued in Washington, DC, on August 22, 2006.
Patricia A. Prosperi,
Director, Departmental Office of Human Resource Management.

Federal Railroad Administration

Jane H. Bachner, Deputy Associate Administrator for Industry and Intermodal Policy, Federal Railroad Administration

Mark Yachmetz, Associate Administrator for Railroad Development, Federal Railroad Administration

Margaret Reid, Associate Administrator for Financial Management and Administration, Federal Railroad Administration

Judy Kaleta, Senior Counsel for Dispute Resolution, Office of the Secretary

Terry Shelton, Chief Information Officer, Federal Motor Carrier Safety Administration

Suzanne TeBeau, Chief Counsel, Federal Motor Carrier Safety Administrator

Joseph Kanianthra, Associate Administrator for Vehicle Safety Research, National Highway Traffic Safety Administration

Federal Transit Administration

Richard H. Doyle, Regional Administrator, Cambridge, MA, Federal Transit Administration

Thomas Herlihy, Assistant General Counsel for Legislation, Office of the Secretary

Rosalind Knapp, Deputy General Counsel, Office of the Secretary

Linda J. Washington, Deputy Assistant Secretary for Administration, Office of the Secretary

John W. Irvin, Associate Administrator for Communications and Congressional Affairs, Federal Transit Administration

National Highway Traffic Safety Administration

Dan Smith, Associate Administrator for Enforcement, National Highway Traffic Safety Administration

Marlene Markison, Associate Administrator for Injury Control Operations and Resources, National Highway Traffic Safety Administration

Margaret O'Brien, Chief Information Officer, National Highway Traffic Safety Administration

Terry Shelton, Associate Administrator for Research, Technology and Information Management, Federal Motor Carrier Safety Administration

Larry Minor, Director, Office of Bus and Truck Standards and Operations, Federal Motor Carrier Safety Administration

Jeffrey Lindley, Associate Administrator for Safety, Federal Highway Administration

Anthony Cooke, Chief Counsel, National Highway Traffic Safety Administration

Federal Highway Administration

Christine M. Johnson, Director of Field Services—West, Federal Highway Administration

James D. Ray, Chief Counsel, Federal Highway Administration

Michael J. Vecchietti, Associate Administrator for Administration, Federal Highway Administration

King W. Gee, Associate Administrator for Infrastructure, Federal Highway Administration

Rose McMurray, Associate Administrator for Policy and Program Development, Federal Motor Carrier Safety Administration

Maritime Administration

Eileen Roberson, Associate Administrator for Administration, Maritime Administration

Bruce Carlton, Associate Administrator for Policy and International Trade, Maritime Administration

Jim Zok, Associate Administrator for Financial Approvals and Cargo Preference, Maritime Administration

Jean E. McKeever, Associate Administrator for Shipbuilding, Maritime Administration

Margaret D. Blum, Associate Administrator for Port, Intermodal, and Environmental Activities, Maritime Administration

Brigham McCown, Deputy Administrator, Pipeline and Hazardous Materials Safety Administration

Office of the Secretary, Research and Innovative Technology Administration, Saint Lawrence Seaway Development Corporation

Roberta D. Gabel, Assistant General Counsel for Environmental, Civil Rights, and General Law, Office of the Secretary

Craig Middlebrook, Deputy Administrator, Saint Lawrence Seaway Development Corporation

Stacey Gerard, Associate Administrator, Office of Pipeline Safety, Pipeline and Hazardous Materials Safety Administration

Michael Trujillo, Departmental Director, Office of Civil Rights, Office of the Secretary

Eileen Roberson, Associate Administrator for Administration, Maritime Administration

Daniel Mintz, Chief Information Officer, Office of the Secretary

Pipeline and Hazardous Materials Safety Administration

Jane Bachner, Deputy Associate Administrator for Industry and Intermodal Policy, Federal Railroad Administration

Eileen Roberson, Associate Administrator for Administration, Maritime Administration

Daniel C. Smith, Associate Administrator for Enforcement, National Highway Traffic Safety Administration

Michael Trujillo, Departmental Director of Civil Rights, Office of the Secretary

Theodore Willke, Deputy Associate Administrator for Pipeline Safety, Pipeline and Hazardous Materials Safety Administration

Federal Motor Carrier Safety Administration

Rose McMurray, Associate Administrator for Policy and Program Development, Federal Motor Carrier Safety Administration

Bruce Carlton, Associate Administrator for Policy and International Trade, Maritime Administration

Mike Halladay, Director, Office of Program Integration and Delivery, Federal Highway Administration

Alexis Stefani, Deputy Assistant Secretary for Budget and Programs, Office of the Secretary

Michael Trujillo, Departmental Director of Civil Rights, Office of the Secretary

Krista Edwards, Chief Counsel, Pipeline and Hazardous Materials Safety Administration

Office of Inspector General

George W. Collard, Assistant Inspector General for Audit Operations, Department of Energy

Michael Delgado, Assistant Inspector General for Investigations, Treasury Inspector General for Tax Administration

Melissa Heist, Assistant Inspector General for Audit, Environmental Protection Agency

Samuel Holland, Assistant Inspector General for Investigations, Federal Deposit Insurance Corporation

Helen Lew, Assistant Inspector General for Auditing, Department of Education

David Montoya, Assistant Inspector General for Investigations, Department of the Interior

Michael Stephens, Deputy Inspector General, Department of Housing and Urban Development

Robert Taylor, Deputy Assistant Inspector General for Audit Program Operations, Department of Treasury

Kathleen S. Tighe, Deputy Inspector General, Department of Agriculture

Eugene Wesley, Assistant Inspector General for Auditing, General Services Administration

Mark Woods, Assistant Inspector General for Investigations, Department of Agriculture

[FR Doc. E6-14335 Filed 8-28-06; 8:45 am]

BILLING CODE 4910-9X-P